DEPARTMENT OF TRANSPORTATION

Federal Aviation Administration

Office of Commercial Space Transportation; Notice of Availability of the Final Environmental Assessment (EA) for Issuing an Experimental Permit to Space Exploration Technologies Corp. (SpaceX) for Operation of the DragonFly Vehicle at the McGregor Test Site, McGregor, Texas, and Finding of No Significant Impact (FONSI)

AGENCY: Federal Aviation Administration (FAA), Department of Transportation (DOT).

ACTION: Notice of Availability.

SUMMARY: In accordance with the National Environmental Policy Act of 1969, as amended (NEPA; 42 U.S.C. 4321, et seq.), Council on Environmental Quality NEPA implementing regulations (40 CFR Parts 1500-1508), and FAA Order 1050.1E, Change 1, the FAA is announcing the availability of the Final EA for Issuing an Experimental Permit to SpaceX for Operation of the DragonFly Vehicle at the McGregor Test Site, McGregor, Texas, and FONSI.

FOR FURTHER INFORMATION CONTACT: Mr. Daniel Czelusniak, Federal Aviation Administration, 800 Independence Avenue SW., Suite 325, Washington, DC 20591; email Daniel.Czelusniak@faa.gov; or phone (202) 267-5924.

SUPPLEMENTARY INFORMATION: The Final EA was prepared to analyze the potential environmental impacts of SpaceX's proposal to conduct suborbital launches and landings of the DragonFly reusable launch vehicle (RLV) at the McGregor, Texas test site located in McLennan and Coryell Counties. To conduct this experimental testing, SpaceX must obtain an experimental permit from the FAA. Under the Proposed Action addressed in the EA, the FAA would issue an experimental permit to SpaceX, which would authorize SpaceX to conduct suborbital launches and landings of the DragonFly RLV from the McGregor test site. To support the DragonFly RLV activities under the experimental permit, SpaceX would construct a 40 foot (ft) by 40 ft launch pad. Therefore, the Proposed Action analyzed in the EA includes the activities that would be authorized by the experimental permit (i.e., the operation of the launch vehicle) as well as the construction of the launch pad. SpaceX anticipates the DragonFly RLV program would require up to two years to complete (2014-2015). Therefore, the Proposed Action considers one new permit and one potential permit renewal. A maximum of 30 annual operations are proposed in each year of operation.

The Final EA addresses the potential environmental impacts of implementing the Proposed Action and the No Action Alternative. Under the No Action Alternative, the FAA would not issue an experimental permit to SpaceX for the operation of the DragonFly RLV at the McGregor test site. Existing SpaceX activities would continue at the McGregor test site, which include engine testing for the Falcon 9 launch vehicle.

The impact categories considered in the Final EA include air quality; noise and compatible land use; Department of Transportation Act: Section 4(f); historical, architectural, archaeological, and cultural resources; fish, wildlife, and plants; water quality (surface waters, groundwater, wetlands, and floodplains); natural resources and energy supply; hazardous materials, pollution prevention, and solid waste; light emissions and visual impacts; and socioeconomics, environmental justice, and children's environmental health and safety risks. The Final EA also considers the potential cumulative environmental impacts.

The FAA has posted the Final EA and FONSI on the FAA Web site at http://www.faa.gov/about/office_org/headquarters_offices/ast/environmental/review/permits/.

The FAA published a Notice of Availability of the Draft EA in the Federal Register on May 21, 2014. A Notice of Availability of the Draft EA was also published in The McGregor Mirror on May 22, 2014. The FAA mailed copies of the Draft EA to the following agencies: Texas Historical Commission (State Historic Preservation Officer), Texas Commission on Environmental Quality, Texas Parks and Wildlife Department, and U.S. Fish and Wildlife Service. An electronic version of the Draft EA was also made available on the FAA Web site. In addition, the FAA printed and mailed a copy of the Draft EA to the McGinley Memorial Library, located at 317 Main Street, McGregor, Texas 76657. The public comment period ended on June 19, 2014. The FAA received letters from the U.S. Department of Interior, Texas Parks and Wildlife Department, and Tonkawa Tribe of Oklahoma. The Final EA responds to all substantive comments and includes any changes or edits resulting from the comments received.

Issued in Washington, DC on: August 12, 2014.
Daniel Murray,
Manager, Space Transportation Development Division.

[FR Doc. 2014-19818 Filed 8-19-14; 8:45 am]

BILLING CODE 4310-13-P